DEPARTMENT OF JUSTICE

National Institute of Corrections

Solicitation for a Cooperative Agreement; Correctional Health Care Executive Curriculum Development

AGENCY: U.S. Department of Justice, National Institute of Corrections.

ACTION: Solicitation for a Cooperative Agreement.

SUMMARY: The National Institute of Corrections (NIC) Administration Division is seeking applications for the development of a competency-based correctional health care executive curriculum to train two-person teams comprised of a Warden, Associate Warden, or Jail Administrator and a Health Services Administrator. This project will be for an eighteen-month period. NIC Administration Division staff will direct the project and will participate in curriculum design, lesson plan development, and the creation of related material.

DATES: Applications must be received by 4 p.m. (E.D.T.) on August 26, 2011.

ADDRESSES: Mailed applications must be sent to: Director, National Institute of Corrections, 320 First Street NW., Room 5002, Washington, DC 20534. Applicants are encouraged to use Federal Express, UPS, or similar service to ensure delivery by the due date as mail at NIC is sometimes delayed due to security screening.

Hand-delivered applications should be brought to 500 First Street, NW., Washington, DC 20534. At the front desk, dial (202) 307-3106, extension 0 for pickup.

Faxed and e-mailed applications will not be accepted; however, electronic applications can be submitted via http://www.grants.gov.

FOR FURTHER INFORMATION CONTACT: A copy of this announcement and links to the required application forms can be downloaded from the NIC Web site at http://www.nicic.gov/cooperativeagreements.

All technical or programmatic questions concerning this announcement should be directed to CDR Anita E. Pollard, Corrections Health Manager, National Institute of Corrections. CDR Pollard can be reached by e-mail at apollard@bop.gov. In addition to the direct reply, all questions and responses will be posted on NIC's Web site at http://www.nicic.gov for public review. (The names of those submitting questions will not be posted.) The Web site will be updated regularly and postings will remain on the Web site until the closing date of this cooperative agreement solicitation. Only questions received by 12 p.m. (EDT) on August 17, 2011 will be answered.

SUPPLEMENTARY INFORMATION:

Background: Both jails and state and federal prisons are daily responsible for providing medically necessary care to more than 2.5 million offenders housed within the confines of their facilities. The administration of correctional hospitals and ambulatory care clinics involves specialized knowledge related to procuring and managing the myriad services provided, i.e., medical, dental, laboratory, pharmaceutical, radiographic, infection control, long-term care, restorative therapy, health information management, and medical specialty services, including behavioral health and obstetrical/gynecological services.

In addition to managing these services and personnel, correctional health care executives must judiciously contract with community-based facilities and practitioners to deliver services that are not provided in jail and/or prison health units. Prior knowledge and experience in managing a health care facility expedites the successful administration of health care resources and programs using proven strategies for efficient health care delivery. However, this specialized correctional health care knowledge is not typically part of the traditional education and training of key administration staff positions—Warden, Associate Warden, Jail Administrator or Health Services Administrator. The complexities of a dual-missioned facility (i.e., correctional & medical management) can present overwhelming and seemingly insurmountable challenges.

NIC intends to develop a training program to better prepare staff in each of these positions to complete their duties in support of a facility's overarching health care mission. This training program will promote the use of evidence-based policies and practices in a curriculum format using the Instructional Theory Into Practice (ITIP) model.

The occurrence of strategic partnerships within organizations is on the rise. In a time of changing workforce issues, security issues, technological advances, and fiscally constraining budgets, it is imperative that organizations and individuals learn to adapt. Approaching leadership strategically is a learned skill. Forward-looking organizations proactively seek ways to advance the leadership capacities of the administrators they promote, or intend to promote, to senior and executive administration.

Target Audience: Wardens, Associate Wardens, Jail Administrators, or Health Services Administrators who are serving in jails, state and federal prisons, as well as community corrections facilities with a demonstrated health care mission.

Scope of Work: The cooperative agreement awardee will produce a complete training curriculum using a blended learning format designed with ITIP model instruction, which will contain an instructor/facilitator's guide with associated tools, materials, and resources with a final, agreed upon curriculum delivered to NIC no later than January 30, 2013; a participant resource guide to be used in conjunction with all training activities; instructional aides and materials, including presentation slide shows, CDs, charts, handouts, case studies, assessments, etc. to support instruction and facilitation; and a pilot demonstration training facilitation and delivery.

The schedule of activities for project completion should include, at a minimum, the following activities (for the development of the blended curriculum): Meet with the NIC project manager for a project overview and initial planning; review materials provided by NIC, including the Correctional Health Care Executive Competency Profile (September 2011); meet with NIC staff to draft a framework for the curriculum, including content topics, performance objectives, estimated timeframes, sequencing, and potential instructional strategies; meet with NIC staff to outline content for each module and assign writers; write lesson plans; exchange lesson plans among the writers for review; revise lesson plans; send lesson plans to advisory committee for review and comment (the committee comprises five members identified by NIC and paid by the awardee); meet with NIC staff to review comments and agree on draft curriculum revisions; revise lesson plans; develop a participant manual, presentation slides, and program overview; submit a final draft of all curriculum materials to NIC for review; revise as directed by NIC; and submit final curriculum in hard copy and on a USB flash drive in Microsoft Word format.

The awardee, in conjunction with NIC, will identify up to four trainers for the 36-hour classroom training program, contract with and pay all costs associated with the trainers, including travel, lodging, meals, fees, and miscellaneous expenses. NIC will secure training space at the National Corrections Academy in Aurora, CO; select pilot program participants (12); notify participants of selection and program details; supply training equipment and materials; and provide for participant lodging, meals, and transportation.

Application Requirements: An application package must include: OMB Standard Form 424, Application for Federal Assistance; a cover letter that identifies the audit agency responsible for the applicant's financial accounts as well as the audit period or fiscal year under which the applicant operates (e.g., July 1 through June 30); an outline of projected costs with the budget and strategy narratives described in this announcement; a project summary/abstract; and a sample curriculum. The following additional forms must also be included: OMB Standard Form 424A; Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf.)

Applications should be concisely written, typed double-spaced and reference the project by the NIC opportunity number and title referenced in this announcement.

If you are hand delivering or submitting via Fed-Ex, please include an original and three copies of the full proposal (program and budget narrative, application forms, assurances and other descriptions). The originals should have the applicant's signature in blue ink. Electronic submissions will be accepted only via http://www.grants.gov.

The single-page project summary/abstract portion of the application should include a concise summary of the application's project description and a brief description of the critical elements of the proposed project. Place the following information at the top of the abstract: Project title; applicant name; mailing address; contact telephone number & e-mail address; and any applicable Web site URLs.

The narrative portion of the cooperative agreement application should include, at a minimum: A brief statement indicating the applicant's understanding of the purpose of this cooperative agreement; a brief paragraph that summarizes the project goals and objectives; a clear description of the methodology that will be used to complete the project and achieve its goals; a clearly developed work plan with measurable project milestones and timelines for the completion of each milestone; a description of the qualifications of the applicant organization and any partner organizations doing the work proposed, and the expertise of key staff to be involved in the project; and a budget that details all costs for the project, shows a consideration for all contingencies for the project, notes a commitment to work within the proposed budget, and demonstrates the ability to provide deliverables reasonably according to schedule.

The narrative portion of the application should not exceed 10 double-spaced typewritten pages, excluding attachments related to the credentials and relevant experience of staff.

In addition to the project summary/abstract and narrative, the applicant must submit one full sample curricula developed by the primary curriculum developers named in the application. The sample curriculum must include lesson plans, presentation slides, and a participant manual.

Authority: Public Law 93-415.

Funds Available: NIC is seeking the applicant's best ideas regarding accomplishment of the scope of work and the related costs for achieving the goals of this solicitation. Funds (up to $100,000) may be used only for the activities linked to the desired outcome of the project.

Eligibility of Applicants: Eligible applicants include any state or general unit of local government, private agencies, educational institutions, individuals, organizations, or teams with expertise in the described areas. Applicants must have demonstrated ability to implement a project of this size and scope.

Review Considerations: Applications received under this announcement will be subject to a NIC review process consisting of a three to five person team. Evaluation will be based on criteria such as: Clarity of applicant's understanding of project tasks; background, experience, and expertise of the proposed project staff, including subcontractors; specific experience with and expertise in local jail and/or prison health care administration; innovative approaches, techniques, or design aspects that enhance the project; experience with curriculum design based on ITIP; experience in designing, managing, facilitating, or delivering training on correctional health-care-related topics; clarity of the description of all project elements and tasks; technical soundness of the project design and methodology; financial and administrative integrity of the proposal, including adherence to federal financial guidelines and processes; a sufficiently detailed budget that shows consideration of all contingencies for this project and a commitment to work within the proposed budget; an indication of availability to meet with NIC staff at various points during the project; and design and quality of sample curriculum.

Note: NIC will NOT award a cooperative agreement to an applicant who does not have a Dun and Bradstreet Database Universal Number (DUNS) and is not registered in the Central Contractor Registry (CCR).

Applicants can obtain a DUNS number at no cost by calling the dedicated toll-free DUNS number request line at 1-800-333-0505. Applicants who are sole proprietors should dial 1-866-705-5711 and select option 1.

Applicants may register in the CRR online at the CCR Web site, http://www.ccr.gov. Applicants can also review a CCR handbook and worksheet at this Web site.

Number of Awards: One.

NIC Opportunity Number: 11AD11. This number should appear as a reference line in the cover letter, where indicated on Standard Form 424, and outside of the envelope in which the application is sent.

Catalog of Federal Domestic Assistance Number: 16.601

Executive Order 12372: This project is not subject to the provisions of Executive Order 12372.

NIC expects this award to be signed by September 30, 2011.

Thomas J. Beauclair,
Deputy Director, National Institute of Corrections.

[FR Doc. 2011-18985 Filed 7-26-11; 8:45 am]

BILLING CODE 4410-36-P